DEPARTMENT OF AGRICULTURE

Food and Nutrition Service

Agency Information Collection Activities: Determining Eligibility for Free and Reduced Price Meals and Free Milk

AGENCY: Food and Nutrition Service (FNS), USDA.

ACTION: Notice.

SUMMARY: In accordance with the Paperwork Reduction Act of 1995, this notice invites the general public and other public agencies to comment on this proposed information collection. This collection is a revision of a currently approved collection for determining eligibility for free and reduced price meals and free milk as stated in FNS regulations. These Federal requirements affect eligibility under the National School Lunch Program, School Breakfast Program, and the Special Milk Program and are also applicable to the Child and Adult Care Food Program and the Summer Food Service Program when individual eligibility must be established.

DATES: Written comments must be received on or before July 7, 2023.

ADDRESSES: Comments may be sent to: Tina Namian, Director, School Meals Policy Division—4th floor, Child Nutrition Programs, Food and Nutrition Service, 1320 Braddock Place, Alexandria, VA 22314. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Wesley Gaddie at 703-457-7718.

SUPPLEMENTARY INFORMATION: Comments are invited on: (a) Whether the proposed collection of information is necessary for the proper performance of the functions of the agency, including whether the information will have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Determining Eligibility for Free and Reduced Price Meals and Free Milk in Schools—7 CFR part 245.

Form Number: This collection does not contain any forms. However, FNS-742 and FNS-874, which are approved under OMB Control Number 0584-0594 Food Programs Reporting System (FPRS) (expiration date July 31, 2023), are used in conjunction with this collection.

OMB Number: 0584-0026.

Expiration Date: July 31, 2023.

Type of Request: Revision of a currently approved collection.

Abstract: The Food and Nutrition Service administers the National School Lunch Program, the School Breakfast Program, and the Special Milk Program as mandated by the Richard B. Russell National School Lunch Act (NSLA), as amended (42 U.S.C. 1751, et seq.), and the Child Nutrition Act of 1966, as amended (42 U.S.C. 1771, et seq.). The proposed collection reports the eligibility burden of the National School Lunch Program; the School Breakfast Program; and the Special Milk Program. The eligibility burden of the Child and Adult Care Food Program and the Summer Food Service Program is reported in information collections under OMB Control Numbers 0584-0055 and 0584-0280, respectfully.

Per 7 CFR part 245, schools participating in these meal and milk programs must make free and reduced-price meals and free milk available to eligible children. This information collection obtains eligibility information for free and reduced-price meals and free milk and also incorporates verification procedures as required to confirm eligibility. The Programs are administered at the State and local levels and operations include direct certification, the submission of household size and income applications for school meal/milk benefits, record maintenance, and public notification of eligibility determinations, documentation, and other data. The information collection burden associated with this revision is summarized in the chart below. Since the last renewal of this collection, school meal programs have been operating under waivers that allowed meals to be served under the Summer Food Service Program and the Seamless Summer Option, which do not require eligibility determinations to be made. As a result, USDA does not have updated data for most requirements covered under this information collection. There are two updates based on new programmatic data. USDA has updated data on the number of state agencies required to maintain direct certification improvement plans. Additionally, since the last renewal the U.S. Virgin Islands have adopted the Community Eligibility Provision (CEP), leading to an increase in the number of State agencies required to meet requirements related to CEP. USDA has also adjusted the previous estimates for hours per response in order for the estimates to be written in whole minutes. This is a revision of the currently approved information collection.

Affected Public: State, local, and Tribal government and individual/households: Respondent groups identified include State agencies, school food authorities/local educational agencies, and individuals/households.

Estimated Number of Respondents: 3,571,312 (55 SAs, 19,371 SFAs/LEAs, and 3,551,886 households).

Estimated Number of Responses per Respondent: 3.514.

Estimated Total Annual Responses: 12,550,211.

Estimated Hours per Response: 0.0527.

Estimated Total Annual Reporting Burden: 651,084.

Estimated Total Annual Recordkeeping Burden: 2,965.

Estimated Total Annual Public Disclosure Burden: 6,754.

Estimated Total Annual Burden: 660,803.

Current OMB Inventory for Part 245: 664,726.

Difference (Burden Revisions Requested with this renewal): −3,923.

Refer to the following table for estimated annual burden per each type of respondent:

Affected public | Estimated number respondents | Estimated number responses per respondent | Estimated total annual responses | Estimated hours per response | Estimated total annual burden hours
(a) | (b) | (c) | (d) = (b × c) | (e) | (f) = (d × e)
Reporting
State Agencies | 55 | 163.56 | 8,996 | 0.0646 | 581
School Food Authorities/Local Educational Agencies | 19,371 | 455.953 | 8,832,491 | 0.0209 | 184,972
Individuals/Households | 3,551,886 | 1.03 | 3,653,373 | 0.1274 | 465,531
Total Reporting Burden | 3,571,312 | 3.50 | 12,494,860 | 0.0521 | 651,084
Recordkeeping
State Agencies | 55 | 12.00 | 660 | 0.1797 | 119
School Food Authorities/Local Educational Agencies | 15,786 | 1.03 | 16,286 | 0.1748 | 2,847
Total Recordkeeping Burden | 15,841 | 1.07 | 16,946 | 0.1750 | 2,965
Public Notification
State Agencies | 55 | 1.98 | 109 | 0.1339 | 15
School Food Authorities | 19,371 | 1.98 | 38,296 | 0.1760 | 6,740
Total Public Notification Burden | 19,426 | 1.98 | 38,405 | 0.1759 | 6,754
Total Reporting, Recordkeeping and Public Disclosure
Reporting | 3,571,312 | 3.50 | 12,494,860 | 0.0521 | 651,084
Recordkeeping | 15,841 | 1.07 | 16,946 | 0.1750 | 2,965
Public Notification | 19,426 | 1.98 | 38,405 | 0.1759 | 6,754
Total Reporting, Recordkeeping, and Public Disclosure Burden | 3,571,312 | 3.514 | 12,550,211 | 0.0527 | 660,803

Tameka Owens,
Assistant Administrator, Food and Nutrition Service.

[FR Doc. 2023-09707 Filed 5-5-23; 8:45 am]

BILLING CODE 3410-30-P